DEPARTMENT OF HOUSING AND URBAN DEVELOPMENT

[Docket No. FR-4837-D-23]

Delegation of Authority Under Section 504 of the Rehabilitation Act of 1973

AGENCY: Office of the Secretary, HUD.

ACTION: Notice of delegation of authority.

SUMMARY: Through this notice, the Secretary of HUD is delegating to the Assistant Secretary for Fair Housing and Equal Opportunity (FHEO) all authority to act as the “responsible civil rights official” and the “reviewing civil rights official” with respect to section 504 of the Rehabilitation Act of 1973. The Secretary revokes all previous delegations of this authority made by the Secretary.

EFFECTIVE DATE: July 9, 2003.

FOR FURTHER INFORMATION CONTACT: Milton Turner, Director, Compliance and Disability Rights Division, Office of Fair Housing and Equal Opportunity, Room 5240, Department of Housing and Urban Development, 451 Seventh Street, SW., Washington, DC 20410-0001, telephone: (202) 708-2333. (This is not a toll-free number.) Hearing- and speech-impaired individuals may access this number through TTY by calling the toll-free Federal Information Relay Service at 1-800-877-8339.

SUPPLEMENTARY INFORMATION: In a notice published June 2, 1988 (53 FR 20253), the Secretary delegated to the Assistant Secretary for FHEO the authority to act as the “responsible civil rights official” with respect to section 504 of the Rehabilitation Act of 1973 (29 U.S.C. 794) and the implementing regulations in 24 CFR part 8 (the section 504 authority). In the June 2, 1988, notice, the Secretary also delegated to the Assistant Secretary for FHEO the authority to redelegate the section 504 authority “to the Regional Directors of FHEO and to the Director of the Office of Program Compliance, except for the authority to issue a preliminary finding of non-compliance under 24 CFR 8.56(g)(1).” The Secretary delegated to the Under Secretary (now referred to as the Deputy Secretary) the authority to act as “reviewing civil rights official.” By notice published December 18, 1989 (54 FR 51804), the Secretary revoked the June 2, 1988, delegation to the Under Secretary and delegated to the Assistant Secretary for FHEO the authority to act as “reviewing civil rights official” with no further authority to redelegate this authority. A notice published March 22, 1991 (56 FR 12302), stated that the remaining delegation of authority to the Assistant Secretary for FHEO had been revoked on June 2, 1988, and therefore, the March 22, 1991, notice delegated to the Assistant Secretary for FHEO the authority to act as “responsible civil rights official” and to redelegate this authority.

Through this notice, the Secretary revokes all prior delegations of section 504 authority, and delegates this authority to the Assistant Secretary for FHEO.

Accordingly, the Secretary delegates authority as follows:

Section A. Authority Delegated

The Secretary of HUD delegates to the Assistant Secretary for FHEO all authority to act as the “responsible civil rights official” and the “reviewing civil rights official” as provided in HUD's regulations in 24 CFR part 8, “Nondiscrimination Based on Handicap in Federally-Assisted Programs and Activities of the Department of Housing and Urban Development.”

Section B. Authority Revoked

All prior delegations of section 504 authority made by the Secretary are revoked. These include, but are not limited to, the delegations published on December 18, 1989 (54 FR 51804), and March 22, 1991 (56 FR 12302).

Section C. Authority To Redelegate

The Assistant Secretary for FHEO may not redelegate the authority to issue or to waive regulations. The Assistant Secretary for FHEO may redelegate the authority to act as “responsible civil rights official” under 24 CFR part 8 to the General Deputy Assistant Secretary for FHEO, to the Deputy Assistant Secretary for Enforcement and Programs, to the Director of the Office of Enforcement, and to the FHEO Hub Directors, and may authorize successive redelegations.

The Assistant Secretary for FHEO may redelegate the authority to act as “reviewing civil rights official” to the General Deputy Assistant Secretary for FHEO, to the Deputy Assistant Secretary for Enforcement and Programs, and to the Director of the Office of Enforcement, however, the Director of the Office of Enforcement is only authorized to act as “reviewing civil rights official” for FHEO Hub Directors.

Authority: Section 7(d) of the Department of Housing and Urban Development Act (42 U.S.C. 3535(d)).

Dated: July 9, 2003.
Mel Martinez,
Secretary.

[FR Doc. 03-18362 Filed 7-18-03; 8:45 am]

BILLING CODE 4210-32-P